DEPARTMENT OF TRANSPORTATION

Federal Aviation Administration

14 CFR Part 39

[Docket No. 2004-NM-46-AD; Amendment 39-13716; AD 2004-14-07]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes, that requires a test for free movement of the capsule/bearing of the nose landing gear (NLG), and related investigative, significant, and corrective actions. This action is necessary to prevent failure of the NLG to extend fully, which could result in reduced controllability of the airplane during landing. This action is intended to address the identified unsafe condition.

DATES: Effective August 13, 2004.

The incorporation by reference of a certain publication listed in the regulations is approved by the Director of the Federal Register as of August 13, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on May 12, 2004 (69 FR 26331). That action proposed to require a test for free movement of the capsule/bearing of the nose landing gear (NLG), and related investigative, significant, and corrective actions.

Comments

Interested persons have been afforded an opportunity to participate in the making of this amendment. No comments were submitted in response to the proposal or the FAA's determination of the cost to the public.

Conclusion

The FAA has determined that air safety and the public interest require the adoption of the rule as proposed.

Cost Impact

The FAA estimates that 57 airplanes of U.S. registry will be affected by this AD, that it will take approximately 6 work hours per airplane to accomplish the required actions, and that the average labor rate is $65 per work hour. Based on these figures, the cost impact of the AD on U.S. operators is estimated to be $22,230, or $390 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-07 BAE Systems (Operations) Limited (Formerly British Aerospace Regional Aircraft): Amendment 39-13716. Docket 2004-NM-46-AD.

Applicability: All Model Jetstream 4101 airplanes, certificated in any category.

Compliance: Required as indicated, unless accomplished previously.

To prevent failure of the nose landing gear (NLG) to extend fully, which could result in reduced controllability of the airplane during landing, accomplish the following:

Service Bulletin Reference and Clarifications

(a) The term “service bulletin,” as used in this AD, means BAE Systems (Operations) Limited Alert Service Bulletin J41-A32-082, Revision 1, dated February 20, 2004.

(1) The term “flow chart,” as used in this AD, means the flow chart following paragraph 1.M. of BAE Systems (Operations) Limited Alert Service Bulletin J41-A32-082, Revision 1.

(2) BAE Systems (Operations) Limited Alert Service Bulletin J41-A32-082, Revision 1, refers to APPH Service Bulletin AIR83586-32-22, Revision 1, dated February 2004, as an additional source of service information for accomplishing the actions in the BAE Systems (Operations) Limited service bulletin.

(3) Actions accomplished before the effective date of this AD per the Accomplishment Instructions of BAE Systems (Operations) Limited Alert Service Bulletin J41-A32-082, dated February 11, 2004, are considered acceptable for the corresponding actions required by this AD. (The original issue of BAE Systems (Operations) Limited Alert Service Bulletin J41-A32-082 refers to the original issue of APPH Service Bulletin AIR83586-32-22, dated February 2004, as an additional source of service information for accomplishing the actions in the BAE Systems (Operations) Limited service bulletin.)

(4) Where BAE Systems (Operations) Limited Alert Service Bulletin J41-A32-082, Revision 1, and APPH Service Bulletin AIR83586-32-22, Revision 1, specify to contact BAE Systems or APPH for repair instructions: Before further flight, repair per a method approved by the Manager, International Branch, ANM-116, FAA, Transport Airplane Directorate; or the Civil Aviation Authority (CAA) (or its delegated agent).

(5) Where the flow chart in BAE Systems (Operations) Limited Alert Service Bulletin J41-A32-082, Revision 1, specifies “flying hours,” for the purposes of this AD, this means “flight hours.”

(6) Where BAE Systems (Operations) Limited Alert Service Bulletin J41-A32-082, Revision 1, specifies to complete a reporting form and return it to the manufacturer, this AD does not require that action.

Initial Test

(b) Within 300 flight cycles or 30 days after the effective date of this AD, whichever occurs first: Perform a test for free movement of the NLG capsule/bearing, as specified in the flow chart of the service bulletin. Do all of the actions per the Accomplishment Instructions of the service bulletin.

Note 1: As specified in the flow chart in the service bulletin, only the actions in paragraph 2.A. (Part 1) of the Accomplishment Instructions of APPH Service Bulletin AIR83586-32-22, Revision 1, dated February 2004, are required by paragraph (a) of this AD.

Related Investigative, Significant, and Corrective Actions

(c) Perform related investigative, significant, and corrective actions as specified in the flow chart of the service bulletin, at the compliance times specified in the flow chart of the service bulletin. Do all of the actions per the Accomplishment Instructions of the service bulletin, except as provided by paragraph (a)(4) of this AD. During any test, if the movement of the capsule/bearing is restricted, the applicable corrective actions must be accomplished before further flight.

Parts Installation

(d) As of the effective date of this AD, no person may install an NLG on any airplane unless it is inspected per the requirements of this AD.

Alternative Methods of Compliance

(e) In accordance with 14 CFR 39.19, the Manager, International Branch, ANM-116, is authorized to approve alternative methods of compliance for this AD.

Incorporation by Reference

(f) Unless otherwise specified in this AD, the actions shall be done in accordance with BAE Systems (Operations) Limited Alert Service Bulletin J41-A32-082, Revision 1, dated February 20, 2004. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in British emergency airworthiness directive G-2004-0003, dated February 24, 2004.

Effective Date

(g) This amendment becomes effective on August 13, 2004.

Issued in Renton, Washington, on June 29, 2004.
Kalene C. Yanamura,
Acting Manager, Transport Airplane Directorate, Aircraft Certification Service.

[FR Doc. 04-15367 Filed 7-8-04; 8:45 am]

BILLING CODE 4910-13-P